DEPARTMENT OF LABOR

Employment and Training Administration

[TA-W-53,291B]

Cone Mills Corporation, Cone White Oak, LLC Division and Corporate Headquarters Now Known as International Textile Group, Inc., Greensboro, NC

Amended Certification Regarding Eligibility To Apply for Worker Adjustment Assistance and Alternative Trade Adjustment Assistance

In accordance with section 223 of the Trade Act of 1974 (19 U.S.C. 2273), and section 246 of the Trade Act of 1974, (26 U.S.C. 2913), as amended, the Department of Labor issued a Certification of Eligibility To Apply for Worker Adjustment Assistance and Alternative Trade Adjustment Assistance on December 3, 2003, applicable to workers of Cone Mills Corporation, Cone White Oak, LLC Division, Greensboro, North Carolina. The notice was published in the Federal Register on April 6, 2004 (69 FR 18110). The certification was amended on March 26, 2004 to include the workers of the Corporate Headquarters of the subject firm. The notice was published in the Federal Register on April 16, 2004 (69 FR 20643).

At the request of the State agency, the Department reviewed the certification for workers of the subject firm. New information shows that Cone Mills, LLC was acquired by International Textile Group, Inc. and beginning in January 2005, the corporate workers' wages are being reported under the Unemployment Insurance (UI) tax account for International Textile Group, Inc., Greensboro, North Carolina.

Accordingly, the Department is amending the certification to properly reflect this matter.

The intent of the Department's certification is to include all workers of Cone Mills Corporation, Cone White Oak, LLC Division and Corporate Headquarters, now known as International Textile Group who were adversely affected by increased imports.

The amended notice applicable to TA-W-53,291B is hereby issued as follows:

All workers of Cone Mills Corporation, Cone White Oak, LLC Division and Corporate Headquarters, now known as International Textile Group, Inc., Greensboro, North Carolina (TA-W-53,291B), who became totally or partially separated from employment on or after October 14, 2002, through December 3, 2005, are eligible to apply for adjustment assistance under Section 223 of the Trade Act of 1974, and are also eligible to apply for alternative trade adjustment assistance under Section 246 of the Trade Act of 1974.

Signed at Washington, DC this 17th day of October 2005.
Linda G. Poole,
Certifying Officer, Division of Trade Adjustment Assistance.

[FR Doc. E5-5881 Filed 10-24-05; 8:45 am]

BILLING CODE 4510-30-P